DEPARTMENT OF JUSTICE

Notice of Lodging of Proposed Consent Decree Under the Clean Air Act and the Emergency Planning and Community Right-To Know Act

On September 30, 2013, the Department of Justice lodged a proposed Consent Decree with the United States District Court for Oregon in the lawsuit entitled United States v. Oregon Door Company, Civil Action No. 6:13-cv-01738-MC.

In this lawsuit filed under the Clean Air Act and the Emergency Planning & Community Right to Know Act, the United States sought to obtain civil penalties and injunctive relief against the Oregon Door Company for violations of the regulations and requirements applicable to the emission of hazardous air pollutants, air operating permits, and toxic chemicals. The violations occurred at the Oregon Door Company manufacturing facility in Dillard, Oregon. The proposed Consent Decree requires the Oregon Door Company to pay a $50,000 civil penalty and perform injunctive relief.

The publication of this notice opens a period for public comment on the Consent Decree. Comments should be addressed to the Assistant Attorney General, Environment and Natural Resources Division, and should refer to United States v. Oregon Door Company, D.J. Ref. No. 90-5-2-1-10448. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $7.50 (25 cents per page reproduction cost) payable to the United States Treasury.

Susan M. Akers,
Assistant Section Chief, Environmental Enforcement Section, Environment and Natural Resources Division.

[FR Doc. 2013-24884 Filed 10-23-13; 8:45 am]

BILLING CODE 4410-15-P